FEDERAL COMMUNICATIONS COMMISSION

Privacy Act System of Records

AGENCY: Federal Communications Commission.

ACTION: Notice.

SUMMARY: Pursuant to subsection (e)(4) of the Privacy Act of 1974, as amended (“Privacy Act”), 5 U.S.C. 552a, the Federal Communications Commission (FCC or Commission) proposes to add one new, consolidated system of records, FCC/PSHSB-1, “FCC Emergency and Continuity Contacts System (ECCS).” FCC/PSHSB-1, “FCC Emergency and Continuity Contacts System (ECCS)” will incorporate the information, e.g., personally identifiable information (PII), presently covered by two FCC systems of records, FCC/EB-4, “Crisis Management Contacts,” and FCC/OMD-11, “Continuity of Operations Plan (COOP),” and also add new and/or updated information that pertains to the mission and activities of the FCC's Public Safety and Homeland Security Bureau (PSHSB). Upon approval of FCC/PSHSB-1, “FCC Emergency and Continuity Contacts System (ECCS),” the Commission will cancel FCC/EB-4 and FCC/OMD-11. The purposes for adding this new system of records, FCC/PSHSB-1, “FCC Emergency and Continuity Contacts System (ECCS),” are for PSHSB to use the records in this system of records to allow the FCC to use:

The information in the Emergency Contacts database to coordinate crisis response activities, etc.;

The information in the Continuity of Operations Plan (COOP) Contacts database to contact FCC employees and contractors regarding COOP matters, etc.; and

An automated telephone and e-mail system to contact its Emergency Contacts and COOP Contacts, etc.

The new system of records will consolidate the systems of records in these two separate internal databases that the Bureau currently uses so that all the PII are now housed in a single PSHSB database for the PSHSB's emergency operations and related activities.

DATES: In accordance with subsections (e)(4) and (e)(11) of the Privacy Act, any interested person may submit written comments concerning the alteration of this system of records on or before October 19, 2011. The Office of Information and Regulatory Affairs (OIRA), Office of Management and Budget (OMB), which has oversight responsibility under the Privacy Act to review the system of records, and Congress may submit comments on or before October 31, 2011. The proposed new system of records will become effective on October 31, 2011 unless the FCC receives comments that require a contrary determination. The Commission will publish a document in the Federal Register notifying the public if any changes are necessary. As required by 5 U.S.C. 552a(r) of the Privacy Act, the FCC is submitting reports on this proposed new system to OMB and Congress.

ADDRESSES: Address comments to Leslie F. Smith, Privacy Analyst, Performance Evaluation and Records Management (PERM), Room 1-C216, Federal Communications Commission (FCC), 445 12th Street, SW., Washington, DC 20554, (202) 418-0217, or via the Internet at Leslie.Smith@fcc.gov.

FOR FURTHER INFORMATION: Contact Leslie F. Smith, Performance Evaluation and Records Management (PERM), Room 1-C216, Federal Communications Commission, 445 12th Street, SW., Washington, DC 20554, (202) 418-0217 or via the Internet at Leslie.Smith@fcc.gov.

SUPPLEMENTARY INFORMATION: As required by the Privacy Act of 1974, as amended, 5 U.S.C. 552a(e)(4) and (e)(11), this document sets forth notice of this proposed new system of records maintained by the FCC. The FCC previously gave complete notice of the two systems of records, FCC/EB-4, “Crisis Management Contacts” and FCC/OMD-11, “Continuity of Operations Plan (COOP),” which it intends to cancel upon approval of FCC/PSHSB-1, “FCC Emergency and Continuity Contacts System (ECCS),” as referenced under this Notice by publication in the Federal Register on April 5, 2006 (71 FR 17234, 17239 and 17254 respectively). This notice is a summary of the more detailed information about the proposed new system of records, which may be viewed at the location given above in the ADDRESSES section. The purposes for adding this new system of records, FCC/PSHSB-1, “FCC Emergency and Continuity Contacts System (ECCS),” are for the FCC's Public Safety and Homeland Security Bureau (PSHSB) to use the records in FCC/PSHSB-1 to allow the FCC to use:

1. The information in the Emergency Contacts database to coordinate crisis response activities, etc.;

2. The information in the COOP Contacts database to contact FCC employees and contractors regarding COOP matters, etc.; and

3. An automated telephone and e-mail system to contact its Emergency Contacts and COOP Contacts, etc.

The new system of records will consolidate the two separate internal systems of records that PSHSB currently uses so that all the PII data are now housed in a single PSHSB database for the PSHSB's emergency operations and related activities.

This notice meets the requirement documenting the change to the systems of records that the FCC maintains, and provides the public, OMB, and Congress with an opportunity to comment.

FCC/PSHSB-1

SYSTEM NAME:

FCC Emergency and Continuity Contacts System (ECCS).

SECURITY CLASSIFICATION:

The Security Operations Center (SOC) has not assigned a security classification to the FCC EPS; however, information in this system may be designated as “Non Public,” or “For Internal Use Only,” Or “For Official Use Only.”

SYSTEM LOCATION:

Public Safety and Homeland Security Bureau (PSHSB), Federal Communications Commission, 445 12th Street, SW., Washington, DC 20554.

CATEGORIES OF INDIVIDUALS COVERED BY THE SYSTEM:

The categories of individuals in the FCC EPS include:

1. Emergency Contacts: FCC employees, Federal Government contacts, State, Tribal, Territorial, Local Government and private sector contacts along with institutions, organizations, and individuals with crisis management and emergency preparedness functions, etc.

2. Continuity of Operations (COOP) Contacts: Bureau and Office Emergency Response Group (ERG) and Devolution Emergency Response Group (DERG) members (employees and contractors) and FCC and Bureau and Office lines of succession.

CATEGORIES OF RECORDS IN THE SYSTEM:

The records in the FCC EPS include:

1. Emergency Contacts: Individual and/or business name(s), position title, business telephone number(s), business cell phone number(s), business satellite phone number(s), business pager number(s), business facsimile number(s), business address(es), business e-mail address(es), home telephone number(s), personal cell phone number(s), personal pager number (s), personal facsimile number(s), and personal e-mail address(es), etc.; and

2. COOP Contacts: FCC members, FCC employee's and contractor's name(s), position title, security clearance information, line of succession information, work and personal telephone number(s), work and personal facsimile number(s), work and personal cell phone number(s), satellite telephone number(s), FCC Government Emergency Telecommunications System (GETS) and Wireless Priority System (WPS) information, satellite telephone number(s), Government passport numbers, work and personal pager number(s), and work and personal e-mail address(es), etc.

AUTHORITY FOR MAINTENANCE OF THE SYSTEM:

Executive Order 12472, Assignment of National Security and Emergency Preparedness Telecommunications Functions, April 3, 1984, as amended February 28, 2003 and June 26, 2006; Presidential Decision Directive 67, Enduring Constitutional Government and Continuity of Government Operations, October 21, 1998; Homeland Security Act of 2002 (6 U.S.C. § 101 et seq.), November 25, 2002; National Security Presidential Directive 51/Homeland Security Presidential Directive 20, National Continuity Policy, May 9, 2007; National Communications System Directive 3-10, Minimum Requirements for Continuity Communications Capabilities, July 25, 2007; National Continuity Policy Implementation Plan, Homeland Security Council, August 2007; Federal Continuity Directive 1, Federal Executive Branch National Continuity Program and Requirements, February 2008; Federal Continuity Directive 2, Federal Executive Branch Mission Essential Function and Primary Mission Essential Function Identification and Submission Process, February 2008.

PURPOSE(S):

The FCC uses the records in the FCC ECCS:

1. Emergency Contacts: To allow the FCC to coordinate crisis response activities, etc.;

2. COOP Contacts: To allow the FCC to contact FCC employees and contractors regarding COOP matters, etc.; and

3. To allow the FCC to use an automated telephone and e-mail system to contact its Emergency Contacts and COOP Contacts, etc.

ROUTINE USES OF RECORDS MAINTAINED IN THE SYSTEM, INCLUDING CATEGORIES OF USERS AND THE PURPOSES OF SUCH USES:

Information about individuals in this system of records may routinely be disclosed under the following conditions:

1. Emergency Response—A record of an individual in this system of records may be disclosed to emergency medical personnel, i.e., doctors, nurses, and/or paramedics, to law enforcement officials or other first responders and emergency officials in case of a medical or other emergency involving the FCC employee or contractor without the subsequent notification to the individual identified in 5 U.S.C. 552a(b)(8);

2. Adjudication and Litigation—Where by careful review, the agency determines that the records are both relevant and necessary to litigation and the use of such records is deemed by the agency to be for a purpose that is compatible with the purpose for which the agency collected the records, these records may be used by a court or adjudicative body in a proceeding when: (a) The agency or any component thereof; or (b) any employee of the agency in her or her official capacity; or (c) any employee of the agency in his or her individual capacity where the agency has agreed to represent the employee; or (d) the United States Government is a party to litigation or has an interest in such litigation;

3. Law enforcement and Investigation—Where there is an indication of a violation or potential violation of a statute, regulation, rule, or order, records from this system may be shared with appropriate Federal, State, or local authorities either for purposes of obtaining additional information relevant to a FCC decision or for referring the record for investigation, enforcement, or prosecution by another agency;

4. Congressional Inquiries—When requested by a Congressional office in response to a written inquiry by an individual made to the Congressional office for the individual's own records;

5. Government-wide Program Management and Oversight—When requested by the National Archives and Records Administration (NARA) and/or the General Services Administration (GSA) for the purpose of records management inspections conducted under authority of 44 U.S.C. 2904 and 2906; when the U.S. Department of Justice (DOJ) is contacted in order to obtain that department's advice regarding disclosure obligations under the Freedom of Information Act; or when the Office of Management and Budget (OMB) is contacted in order to obtain that office's advice regarding obligations under the Privacy Act;

6. Employment, Clearances, Licensing, Contract, Grant or other Benefits Decisions by the agency—A disclosure may be made to Federal, State, local or foreign agency maintaining civil, criminal, or other relevant enforcement records, or other pertinent records, or to another public authority or professional organization, if necessary to obtain information relevant to an investigation concerning the retention of an employee or other personnel action (other than hiring), the retention of a security clearance, the letting of a contract, or the issuance or retention of a grant, or other benefit;

7. Labor Relations—A record from this system may be disclosed to officials of labor organizations recognized under 5 U.S.C. chapter 71 upon receipt of a formal request and in accord with the conditions of 5 U.S.C. 7114 when relevant and necessary to their duties of exclusive representation concerning personnel policies, practices, and matters affecting working conditions.

8. Breach Notification—A record from this system may be disclosed to appropriate agencies, entities, and persons when (1) the Commission suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure made to such agencies, entities, and persons is reasonably necessary to assist in connection with the Commission's efforts to respond to the suspected or confirmed compromise and prevent, minimize, or remedy such harm;

9. First Responders—A record from this system of records may be disclosed to law enforcement officials, Department of Homeland Security (DHS), Federal Emergency Management Agency (FEMA), Department of Defense (DOD), National Telecommunications and Information Administration (NTIA), White House Communications Agency, other Federal agencies, and state and local emergency response officials, e.g., fire, safety, and rescue personnel, etc., and medical personnel, e.g., doctors, nurses, and paramedics, etc., in case of an emergency situation at FCC facilities, without the subsequent notification to the individual identified in 5 U.S.C. 552a(b)(8); and

10. Contracted Third Parties—A record of this system may be disclosed to external contracted parties throughout the United States for required maintenance, data input, and/or extraction requirements, testing, and activation of an automated telephone and e-mail system.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

Information in the FCC ECCS consists of electronic data, files, and records, which are housed in the FCC's computer network databases, and paper documents, files, and records, which are stored in file cabinets in the PSHSB office suite.

RETRIEVABILITY:

Information in the Emergency Contacts and the COOP Contacts databases is retrieved by searching any field in the respective database;

SAFEGUARDS:

1. Emergency Contacts: The paper records, documents, and files are stored in filing cabinets in the PSHSB office suite, which are locked when not in use. The electronic records, files, and data are maintained in the FCC's network computer databases and by a third-party vendor.

2. COOP Contacts: The paper records, documents, and files are stored in filing cabinets in the PSHSB office suite, which are locked when not in use. The electronic records, files, and data are maintained in the FCC's network computer databases.

The FCC's computer networks that house the Emergency Contacts database and the COOP Contact database are protected by the FCC's security protocols, which include controlled access, passwords, and other security features. Information resident on the Emergency Contacts and COOP Contacts database servers is backed-up per FCC Office of Managing Director protocols.

The information in the Emergency Contacts database and COOP Contacts database is only available for review and updating by the employees and contractors (whose information is maintained in the databases), Bureau/Office administrative personnel, and FCC management on a need-to- know basis. Authorized PSHSB supervisors and staff also have access to the paper documents, files, and records that are stored in the filing cabinets located in the PSHSB office suite and to the electronic records, files, and data that are housed in the FCC's computer network databases and in those of a third-party vendor. The supervisors, staff, and contractors in the FCC's Information Technology Center's (ITC), who manage the FCC's computer network databases have access to the electronic information. Other employees and contractors are only granted access to the information in the filing cabinets and electronic databases on a “need-to-know” basis.

RETENTION AND DISPOSAL:

1. Emergency Contacts: The paper files and electronic data in this system are retained and disposed of in accordance with the National Archives and Records Administration (NARA) General Records Schedule 1, which may be viewed at http://www.archives.gov/records-mgmt/ardor/grs01.html.

2. COOP Contacts: The retention schedule for this system's electronic records has not yet been determined. No records will be destroyed until a disposal schedule has been approved by the National Archives and Records Administration (NARA).

SYSTEM MANAGER(S) AND ADDRESS:

Address inquiries to Public Safety and Homeland Security Bureau (PSHSB), Federal Communications Commission (FCC), 445 12th Street, SW., Washington, DC 20554.

NOTIFICATION PROCEDURE:

Address inquiries to Public Safety and Homeland Security Bureau (PSHSB), Federal Communications Commission (FCC), 445 12th Street, SW., Washington, DC 20554.

RECORD ACCESS PROCEDURES:

Address inquiries to Public Safety and Homeland Security Bureau (PSHSB), Federal Communications Commission (FCC), 445 12th Street, SW., Washington, DC 20554.

CONTESTING RECORD PROCEDURES:

Address inquiries to Public Safety and Homeland Security Bureau (PSHSB), Federal Communications Commission (FCC), 445 12th Street, SW., Washington, DC 20554.

RECORD SOURCE CATEGORIES:

1. Emergency Contacts: The sources for the information in this system include FCC employees, Federal Government contacts, State, Tribal, Territorial, Local Government and private sector contacts along with institutions, organizations, and individuals with crisis management and emergency preparedness functions, etc.; and

2. COOP Contacts: The sources for information in this system include FCC employees and contractors.

EXEMPTIONS CLAIMED FOR THE SYSTEM:

None.

Federal Communications Commission.
Marlene H. Dortch,
Secretary, Office of the Secretary, Office of Managing Director.

[FR Doc. 2011-23929 Filed 9-16-11; 8:45 am]

BILLING CODE 6712-01-P